DEPARTMENT OF COMMERCE

International Trade Administration

[C-533-900, C-821-830]

Granular Polytetrafluoroethylene Resin From India and the Russian Federation: Countervailing Duty Orders

AGENCY: Enforcement and Compliance, International Trade Administration, Department of Commerce.

SUMMARY: Based on affirmative final determinations by the Department of Commerce (Commerce) and the International Trade Commission (ITC), Commerce is issuing countervailing duty orders on granular polytetrafluoroethylene (PTFE) resin from India and the Russian Federation (Russia).

DATES: Applicable March 15, 2022.

FOR FURTHER INFORMATION CONTACT: Joshua Simonidis (India) or George Ayache (Russia), AD/CVD Operations, Office VIII, Enforcement and Compliance, International Trade Administration, U.S. Department of Commerce, 1401 Constitution Avenue NW, Washington, DC 20230; telephone (202) 482-0608 or (202) 482-2623, respectively.

SUPPLEMENTARY INFORMATION:

Background

On January 25, 2022, Commerce published in the Federal Register its affirmative final determinations in the countervailing duty investigations of granular PTFE resin from India and Russia.¹ On March 8, 2022, the ITC notified Commerce of its final affirmative determinations, pursuant to sections 705(b)(1)(A)(i) and 705(d) of the Tariff Act of 1930, as amended (the Act), that an industry in the United States is materially injured by reason of subsidized imports of granular PTFE resin from India and Russia, and of its determination that critical circumstances do not exist with respect to imports of granular PTFE resin from India.²

¹ See Granular Polytetrafluoroethylene Resin from India: Final Affirmative Countervailing Duty Determination and Final Affirmative Critical Circumstances Determination, 87 FR 3765 (January 25, 2022) (India Final Determination); see also Granular Polytetrafluoroethylene Resin from the Russian Federation: Final Affirmative Countervailing Duty Determination, 87 FR 3764 (January 25, 2022) (Russia Final Determination).

² See ITC Notification Letter, Investigation Nos. 701-TA-663-664 and 731-TA-1555-1556 (March 8, 2022) (ITC Notification).

Scope of the Orders

The product covered by these orders is granular PTFE resin from India and Russia. For a complete description of the scope of these orders, see the Appendix to this notice.

Countervailing Duty Orders

On March 8, 2022, in accordance with sections 705(b)(1)(A)(i) and 705(d) of the Act, the ITC notified Commerce of its final determinations in these investigations, in which it found that an industry in the United States is materially injured by reason of subsidized imports of granular PTFE resin from India and Russia. Therefore, in accordance with section 705(c)(2) of the Act, Commerce is issuing these countervailing duty orders. Because the ITC determined that imports of granular PTFE resin from India and Russia are materially injuring a U.S. industry, unliquidated entries of such merchandise from India and Russia, entered or withdrawn from warehouse for consumption, are subject to the assessment of countervailing duties.

Therefore, in accordance with section 706(a) of the Act, Commerce will direct U.S. Customs and Border Protection (CBP) to assess, upon further instruction by Commerce, countervailing duties on unliquidated entries of granular PTFE resin from India and Russia. With the exception of entries occurring after the expiration of the provisional measures period and before the publication of the ITC's final affirmative injury determinations, as further described below, countervailing duties will be assessed on unliquidated entries of granular PTFE resin from India and Russia entered, or withdrawn from warehouse, for consumption on or after July 6, 2021, the date of publication of the Preliminary Determinations in the Federal Register.³

³ See Granular Polytetrafluoroethylene Resin from India: Preliminary Affirmative Countervailing Duty Determination, Preliminary Affirmative Critical Circumstances Determination, and Alignment of Final Determination with Final Antidumping Duty Determination, 86 FR 35479 (July 6, 2021); see also Granular Polytetrafluoroethylene Resin from the Russian Federation: Preliminary Affirmative Countervailing Duty Determination and Alignment of Final Determination with Final Antidumping Duty Determination, 86 FR 35476 (July 6, 2021) (collectively, Preliminary Determinations).

Critical Circumstances

With regards to the ITC's negative critical circumstances determination on imports of granular PTFE resin from India discussed above, we will instruct CBP to lift suspension and to refund any cash deposits made to secure the payment of estimated countervailing duties with respect to entries of granular PTFE resin from India, entered or withdrawn from warehouse, for consumption on or after April 7, 2021 (i.e., 90 days prior to the date of publication of the preliminary determination), but before July 6, 2021 (i.e., the date of the publication of the preliminary determination for this investigation).

Suspension of Liquidation and Cash Deposits

In accordance with section 706 of the Act, Commerce will direct CBP to reinstitute the suspension of liquidation of granular PTFE resin from India and Russia, effective the date of publication of the ITC's notice of final determinations in the Federal Register, and to assess, upon further instruction by Commerce pursuant to section 706(a)(1) of the Act, countervailing duties for each entry of the subject merchandise in an amount based on the net countervailable subsidy rates for the subject merchandise. On or after the date of publication of the ITC's final injury determinations in the Federal Register, CBP must require, at the same time as importers would normally deposit estimated duties on this merchandise, a cash deposit equal to the rates noted below. These instructions suspending liquidation will remain in effect until further notice. The all-others rate applies to all producers or exporters not specifically listed below.

Country | Company | Subsidy rate (percent)
India | Gujarat Fluorochemicals Limited ⁴ | 31.89
| All Others | 31.89
Russia | Joint Stock Company “HaloPolymer” ⁵ | 2.53
| All Others | 2.53

Provisional Measures

Section 703(d) of the Act states that the suspension of liquidation pursuant to an affirmative preliminary determination may not remain in effect for more than four months. In the underlying investigations, Commerce published the Preliminary Determinations on July 6, 2021.⁶ Therefore, entries of granular PTFE resin from India and Russia made on or after November 3, 2021, and prior to the date of publication of the ITC's final determination in the Federal Register, are not subject to the assessment of countervailing duties due to Commerce's discontinuation of the suspension of liquidation.

⁴ Commerce found the following companies to be cross-owned with Gujarat Fluorochemicals Limited: Inox Leasing Finance Limited and Inox Wind Limited. See India Final Determination.

⁵ Commerce found the following companies to be cross-owned with Joint Stock Company “HaloPolymer”: Limited Liability Company “HaloPolymer Kirovo-Chepetsk,” Joint Stock Company “HaloPolymer Perm,” and URALCHEM JSC. See Russia Final Determination.

⁶ See Preliminary Determinations.

In accordance with section 703(d) of the Act, Commerce instructed CBP to terminate the suspension of liquidation and to liquidate, without regard to countervailing duties, unliquidated entries of granular PTFE resin from India and Russia entered, or withdrawn from warehouse, for consumption on or after November 3, 2021, the date on which the provisional countervailing duty measures expired, through the day preceding the date of publication of the ITC final injury determinations in the Federal Register. Suspension of liquidation will resume on the date of publication of the ITC final injury determinations in the Federal Register.

Establishment of the Annual Inquiry Service Lists

On September 20, 2021, Commerce published the final rule titled “Regulations to Improve Administration and Enforcement of Antidumping and Countervailing Duty Laws” in the Federal Register.⁷ On September 27, 2021, Commerce also published the notice titled “Scope Ruling Application; Annual Inquiry Service List; and Informational Sessions” in the Federal Register.⁸ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.⁹

⁷ See Regulations to Improve Administration and Enforcement of Antidumping and Countervailing Duty Laws, 86 FR 52300 (September 20, 2021) (Final Rule).

⁸ See Scope Ruling Application; Annual Inquiry Service List; and Informational Sessions, 86 FR 53205 (September 27, 2021) (Procedural Guidance).

⁹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁰

¹⁰ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹¹ Accordingly, as stated above, the petitioners and foreign governments should submit their initial entry of appearance after publication of this notice in order to appear in the first annual inquiry service list for those orders for which they qualify as an interested party. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹¹ See Final Rule, 86 FR at 52335.

Notifications to Interested Parties

This notice constitutes the countervailing duty orders with respect to granular PTFE resin from India and Russia pursuant to section 706(a) of the Act. Interested parties can find a list of countervailing duty orders currently in effect at http://enforcement.trade.gov/stats/iastats1.html.

These orders are issued and published in accordance with section 706(a) of the Act and 19 CFR 351.211(b).

Dated: March 9, 2022.
Lisa W. Wang,
Assistance Secretary for Enforcement and Compliance.

Appendix—Scope of the Orders

The product covered by these orders is granular polytetrafluoroethylene (PTFE) resin. Granular PTFE resin is covered by the scope of these orders whether filled or unfilled, whether or not modified, and whether or not containing co-polymer, additives, pigments, or other materials. Also included is PTFE wet raw polymer. The chemical formula for granular PTFE resin is C2F4, and the Chemical Abstracts Service (CAS) Registry number is 9002-84-0.

Subject merchandise includes material matching the above description that has been finished, packaged, or otherwise processed in a third country, including by filling, modifying, compounding, packaging with another product, or performing any other finishing, packaging, or processing that would not otherwise remove the merchandise from the scope of the orders if performed in the country of manufacture of the granular PTFE resin.

The product covered by these orders does not include dispersion or coagulated dispersion (also known as fine powder) PTFE.

PTFE further processed into micropowder, having particle size typically ranging from 1 to 25 microns, and a melt-flow rate no less than 0.1 gram/10 minutes, is excluded from the scope of these orders.

Granular PTFE resin is classified in the Harmonized Tariff Schedule of the United States (HTSUS) under subheading 3904.61.0010. Subject merchandise may also be classified under HTSUS subheading 3904.69.5000. Although the HTSUS subheadings and CAS Number are provided for convenience and customs purposes, the written description of the scope is dispositive.

[FR Doc. 2022-05419 Filed 3-14-22; 8:45 am]

BILLING CODE 3510-DS-P